DEPARTMENT OF THE INTERIOR

National Park Service

[NPS-WASO-NAGPRA-11848; 2200-1100-665]

Native American Graves Protection and Repatriation Review Committee: Meeting

AGENCY: National Park Service, Interior.

ACTION: Notice.

SUMMARY: Notice is hereby given in accordance with the Federal Advisory Committee Act, 5 U.S.C. Appendix (1988), of a telephonic meeting of the Native American Graves Protection and Repatriation Review Committee (Review Committee). This meeting will be open to the public. The agenda for the meeting will be limited to finalization of the Review Committee Report to Congress for 2012, the appointment of the subcommittee to draft the Review Committee's Report to the Congress for 2013, and discussion of the scope of the Report.

DATES: The Review Committee will meet on January 10, 2013, from 1 p.m. to approximately 3 p.m. EST. The agenda and materials for this meeting will be posted on or before December 24, 2012.

ADDRESSES: Those who desire to attend the meeting should contact NAGPRA@rap.midco.net, between January 2 and 8, 2013, to be provided the telephone access number for the meeting.

SUPPLEMENTARY INFORMATION: Notice is hereby given in accordance with the Federal Advisory Committee Act, 5 U.S.C. Appendix (1988), of a telephonic meeting of the Native American Graves Protection and Repatriation Review Committee (Review Committee). This meeting will be open to the public. The agenda for the meeting will be limited to finalization of the Review Committee Report to Congress for 2012, the appointment of the subcommittee to draft the Review Committee's Report to the Congress for 2013, and discussion of the scope of the Report. The agenda and materials for this meeting will be posted on or before December 24, 2012, on the National NAGPRA Program Web site: http://www.nps.gov/nagpra. A transcript and minutes of the meeting will also appear on the National NAGPRA Program Web site after the meeting has occurred.

Information about NAGPRA, the Review Committee, and Review Committee meetings is available on the National NAGPRA Program Web site. For the Review Committee's meeting procedures, click on “Review Committee,” then click on “Procedures.” Meeting minutes may be accessed by going to the Web site; then clicking on “Review Committee;” and then clicking on “Meeting Minutes.” Approximately fourteen weeks after each Review Committee meeting, the meeting transcript is posted for a limited time on the National NAGPRA Program Web site.

The Review Committee was established in Section 8 of the Native American Graves Protection and Repatriation Act of 1990 (NAGPRA), 25 U.S.C. 3006. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Committee; consulting with the Secretary of the Interior on the development of regulations to carry out NAGPRA; and making recommendations regarding future care of repatriated cultural items. The Review Committee's work is carried out during the course of meetings that are open to the public.

Dated: December 4, 2012.
Sherry Hutt,
Designated Federal Officer, Native American Graves Protection and Repatriation Review Committee.

[FR Doc. 2012-30440 Filed 12-17-12; 8:45 am]

BILLING CODE 4312-50-P